DEPARTMENT OF HOUSING AND URBAN DEVELOPMENT

[Docket No. FR-6268-N-03]

Notice of Regulatory Waiver Requests Granted for the Third Quarter of Calendar Year 2021

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2021, and ending on September 30, 2021, including those made pursuant to the CARES Act.

FOR FURTHER INFORMATION CONTACT: For general information about this notice, contact Aaron Santa Anna, Associate General Counsel for Legislation and Regulations, Department of Housing and Urban Development, 451 Seventh Street SW, Room 10282, Washington, DC 20410-0500, telephone 202-708-5300 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2021.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2021, through September 30, 2021. For ease of reference, the waivers granted by HUD are listed by HUD program office (for example, the Office of Community Planning and Development, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Additionally, this notice includes waivers made pursuant to the Coronavirus Aid, Relief and Economic Security Act (CARES Act), not previously published in the Federal Register. These waivers are listed separately from other individual waivers within each program office grouping, as CARES Act waivers broadly covered all affected parties rather than individual, case-by-case situations.

Should HUD receive additional information about waivers granted during the period covered by this report (the third quarter of calendar year 2021) before the next report is published (the fourth quarter of calendar year 2021), HUD will include any additional waivers granted for the third quarter in the next report.

Accordingly, information about approved waiver requests pertaining to HUD regulations is provided in the Appendix that follows this notice.

Damon C. Smith,
General Counsel.

Appendix

Listing of Waivers of Regulatory Requirements Granted by Offices of the Department of Housing and Urban Development July 1, 2021, Through September 30, 2021

Note to Reader: More information about the granting of these waivers, including a copy of the waiver request and approval, may be obtained by contacting the person whose name is listed as the contact person directly after each set of regulatory waivers granted.

The regulatory waivers granted appear in the following order:

I. Regulatory Waivers Granted by the Office of Community Planning and Development.

II. Regulatory Waivers Granted by the Office of Housing.

III. CARES Act Waivers Contained in CPD Notice 21-08 (July 19, 2021)

I. Regulatory Waivers Granted by the Office of Community Planning and Development

For further information about the following regulatory waivers, please see the name of the contact person that immediately follows the description of the waiver granted.

• Regulation: 24 CFR 91.105(c)(2), and (k); 24 CFR 91.115(c)(2), and (i); and 24 CFR 91.401.

Project/Activity: Any HUD Community Planning and Development (CPD) grantee located in the counties included in the declared-disaster area (see FEMA-DR-4611) seeking to expedite action in response to Hurricane Ida, upon notification to the Community Planning and Development Director in its respective HUD Field Office.

Nature of Requirement: The regulations at 24 CFR 91.105(c)(2) and (k); 24 CFR 91.115(c)(2), and (i); and 24 CFR 91.401 require a 30-day public comment period prior to the implementation of a substantial amendment.

Granted By: James Arthur Jemison II, Principal Deputy Assistant Secretary for Community Planning and Development.

Date Granted: September 3, 2021.

Reason Waived: Hurricane Ida caused substantial damage to communities in Louisiana. As a result of substantial property loss and destruction, many individuals and families residing in the declared-disaster areas were displaced from their homes, including beneficiaries of various CPD programs, and families eligible to receive CPD program assistance. Some individuals and families continued to live in homes with habitability deficits, particularly related to potable water and electricity. A presidential disaster declaration was issued on August 29, 2021, (FEMA-DR-4611) for Hurricane Ida. In reducing the comment period to seven days, this waiver balances the need to quickly assist families dealing with the after-effects of Hurricane Ida while continuing to provide reasonable notice and opportunity for citizens to comment on the proposed uses of CDBG, HOME, HTF, HOPWA, and ESG funds.

Contact: James E. Höemann, Director, Entitlement Communities Division, Community Planning and Development, Department of Housing and Urban Development, 451 Seventh Street SW, Room 7282, Washington, DC 20410, telephone (202) 402-5716.

• Regulation: 24 CFR 91.105(c)(2), and (k); 24 CFR 91.115(c)(2), and (i); and 24 CFR 91.401.

Project/Activity: Any HUD Community Planning and Development (CPD) grantee located in the counties included in the declared-disaster area (see FEMA-DR-4614 and FEMA-DR-4615) seeking to expedite action in response to the remnants of Hurricane Ida, upon notification to the Community Planning and Development Director in its respective HUD Field Office.

Nature of Requirement: The regulations at 24 CFR 91.105(c)(2) and (k); 24 CFR 91.115(c)(2), and (i); and 24 CFR 91.401 require a 30-day public comment period prior to the implementation of a substantial amendment.

Granted By: James Arthur Jemison II, Principal Deputy Assistant Secretary for Community Planning and Development.

Date Granted: September 9, 2021.

Reason Waived: The remnants of Hurricane Ida caused substantial damage to communities in New York and New Jersey. As a result of substantial property loss and destruction, many individuals and families residing in the declared-disaster areas were displaced from their homes, including beneficiaries of various CPD programs, and families eligible to receive CPD program assistance. Some individuals and families continued to live in homes with habitability deficits, particularly related to potable water and electricity. A presidential disaster declaration was issued on September 5, 2021, (FEMA-DR-4614 and FEMA-DR-4615) for the remnants of Hurricane Ida. In reducing the comment period to seven days, this waiver balances the need to quickly assist families dealing with the after-effects of Hurricane Ida while continuing to provide reasonable notice and opportunity for citizens to comment on the proposed uses of CDBG, HOME, HTF, HOPWA, and ESG funds.

Contact: James E. Höemann, Director, Entitlement Communities Division, Community Planning and Development, Department of Housing and Urban Development, 451 Seventh Street SW, Room 7282, Washington, DC 20410, telephone (202) 402-5716.

• Regulation: 24 CFR 91.105(c)(2), and (k) and 24 CFR 91.115(c)(2), and (i).

Project/Activity: Any HUD Community Planning and Development (CPD) grantee located in the counties included in the declared-disaster area (see FEMA-DR-4611) seeking to expedite action in response to Hurricane Ida, upon notification to the Community Planning and Development Director in its respective HUD Field Office.

Nature of Requirement: The regulations at 24 CFR 91.105(c)(2) and (k) and 24 CFR 91.115(c)(2) and (i) require grantees to provide reasonable notice and opportunity to comment, in accordance with a grantee's citizen participation plan, for substantial amendments to the consolidated plan. The citizen participation plan must state how reasonable notice and opportunity to comment will be given.

Granted By: James Arthur Jemison II, Principal Deputy Assistant Secretary for Community Planning and Development.

Date Granted: September 3, 2021.

Reason Waived: HUD recognizes that the destruction wrought by Hurricane Ida makes it difficult for impacted jurisdictions in Louisiana to provide notice to their citizens in accordance with their citizen participation plans. HUD's waiver will allow these grantees to determine what constitutes reasonable notice and opportunity to comment on substantial amendments through the end of their 2021 program year.

Contact: James E. Höemann, Director, Entitlement Communities Division, Community Planning and Development, Department of Housing and Urban Development, 451 Seventh Street SW, Room 7282, Washington, DC 20410, telephone (202) 402-5716.

• Regulation: 24 CFR 91.105(c)(2), and (k) and 24 CFR 91.115(c)(2), and (i).

Project/Activity: Any HUD Community Planning and Development (CPD) grantee located in the counties included in the declared-disaster area (see FEMA-DR-4614 and FEMA-DR-4615) seeking to expedite action in response to the remnants of Hurricane Ida, upon notification to the Community Planning and Development Director in its respective HUD Field Office.

Nature of Requirement: The regulations at 24 CFR 91.105(c)(2) and (k) and 24 CFR 91.115(c)(2) and (i) require grantees to provide reasonable notice and opportunity to comment, in accordance with a grantee's citizen participation plan, for substantial amendments to the consolidated plan. The citizen participation plan must state how reasonable notice and opportunity to comment will be given.

Granted By: James Arthur Jemison II, Principal Deputy Assistant Secretary for Community Planning and Development.

Date Granted: September 9, 2021.

Reason Waived: HUD recognizes that the destruction wrought by the remnants of Hurricane Ida make it difficult for impacted jurisdictions in New York and New Jersey to provide notice to their citizens in accordance with their citizen participation plans. HUD's waiver will allow these grantees to determine what constitutes reasonable notice and opportunity to comment on substantial amendments through the end of their 2021 program year.

Contact: James E. Höemann, Director, Entitlement Communities Division, Community Planning and Development, Department of Housing and Urban Development, 451 Seventh Street SW, Room 7282, Washington, DC 20410, telephone (202) 402-5716.

• Regulation: 24 CFR 92.203(a)(1) and (2).

Project/Activity: Families displaced by the disaster (as documented by FEMA registration) whose income documentation was destroyed or made inaccessible by Hurricane Ida.

Nature of Requirement: These sections of the HOME regulation require initial income determinations for HOME beneficiaries by examining source documents covering the most recent two months. Many families whose housing was destroyed or damaged by Hurricane Ida will not have any documentation of income and will not be able to qualify for HOME assistance if the requirement remains effective.

Granted By: James Arthur Jemison II, Principal Deputy Assistant Secretary for Community Planning and Development.

Date Granted: September 3, 2021, for LA, September 9, 2021, for NY/NJ.

Reason Waived: This waiver permits the participating jurisdiction to use self-certification of income, as provided in § 92.203(a)(1)(ii), in lieu of source documentation to determine eligibility for HOME assistance of persons displaced by Hurricane Ida.

Applicability: This waiver applies only to families displaced by the disaster (as documented by FEMA registration) whose income documentation was destroyed or made inaccessible by Hurricane Ida and remains in effect for six months from the date of this memorandum. The participating jurisdiction or, as appropriate, HOME project owner, is required to maintain: (1) A record of FEMA registration to demonstrate that a family was displaced by Hurricane Ida; and (2) a statement signed by appropriate family members certifying to the family's size and annual income and that the family's income documentation was destroyed or is inaccessible.

Contact: Virginia Sardone, Director, Office of Affordable Housing Programs, U.S. Department of Housing and Urban Development, 451 Seventh Street SW, Room 7160, Washington, DC 20410, telephone (202) 708-2684.

• Regulation: 24 CFR 92.205(e)(2) and 24 CFR 92.64(a) (Insular Areas).

Project/Activity: Four-Year Project Completion Deadline.

Nature of Requirement: The provision requires that projects assisted with HOME funds be completed within 4 years of the date that HOME funds were committed. If the project is not complete, in accordance with the definition of “project completion” at 24 CFR 92.2, by the deadline, the project is involuntarily terminated in HUD's Integrated Data Information System (IDIS), and the PJ must repay all funds invested in the project. The regulations permit a PJ to request an extension of the deadline for up to one year. 24 CFR 92.64(a) applies these requirements to Insular Areas.

Granted By: James Arthur Jemison II, Principal Deputy Assistant Secretary for Community Planning and Development.

Date Granted: September 27, 2021.

Reason Waived: This waiver is necessary to provide additional time to permit completion of HOME-assisted projects that may be delayed because of the impact of COVID-19 on project timelines. These delays may occur because of worker illnesses or efforts to reduce the spread of COVID-19, such as smaller construction crews or delays in local permitting or inspections due to government office closures.

Applicability: This waiver applies to projects with 4-year project completion deadlines that occurred or will occur on after April 10, 2020, including projects with deadlines that were extended for one-year pursuant to an approved request under 24 CFR 92.205(e)(2) if such extension was in effect on or after April 10, 2020. The completion deadlines for covered projects will be extended to March 31, 2022.

Contact: Virginia Sardone, Director, Office of Affordable Housing Programs, U.S. Department of Housing and Urban Development, 451 Seventh Street SW, Room 7160, Washington, DC 20410, telephone (202) 708-2684.

• Regulation: 24 CFR 92.218 and 92.222(b).

Project/Activity: Any participating jurisdiction located in the areas included in the declared-disaster area (see FEMA-DR-4611-LA or FEMA-DR-4614-NJ and DR-4615-NY) which were damaged by Hurricane Ida.

Nature of Requirement: This provision requires all HOME participating jurisdictions to contribute throughout the fiscal year to housing that qualifies as affordable housing under the HOME program. The contributions must total no less than 25 percent of the HOME funds drawn from the participating jurisdiction's HOME Investment Trust Fund Treasury account. Reducing the match requirement for the participating jurisdiction by 100 percent for FY 2022 and FY 2023 will eliminate the need for the participating jurisdiction to identify match for HOME projects related to the damage caused by Hurricane Ida. The requirement that the participating jurisdiction must submit a copy of the Presidential major disaster-declaration is waived.

Granted By: James Arthur Jemison II, Principal Deputy Assistant Secretary for Community Planning and Development.

Date Granted: September 3, 2021, for LA, September 9, 2021, for NY/NJ.

Reason Waived: Given the urgent housing needs created by Hurricane Ida and the substantial financial impact the participating jurisdiction will face in addressing those needs, the approval of a match reduction will relieve the participating jurisdiction from the need to identify and provide matching contributions to HOME projects.

Applicability: This match reduction applies to funds expended by a participating jurisdiction located in the declared-disaster area from October 1, 2020, through September 30, 2023. The suspension also applies to State-funded HOME projects located in declared-disaster areas.

Contact: Virginia Sardone, Director, Office of Affordable Housing Programs, U.S. Department of Housing and Urban Development, 451 Seventh Street SW, Room 7160, Washington, DC 20410, telephone (202) 708-2684.

• Regulation: 24 CFR 92.218 and 92.222(b).

Project/Activity: Matching Contribution.

Nature of Requirement: The regulations require all HOME PJs to contribute throughout the fiscal year to housing that qualifies as affordable housing under the HOME program. The contributions must total no less than 25 percent of the HOME funds drawn from the PJ's HOME Investment Trust Fund Treasury account.

Granted By: James Arthur Jemison II, Principal Deputy Assistant Secretary for Community Planning and Development.

Date Granted: September 27, 2021.

Reason Waived: The COVID-19 pandemic has drastically reduced economic activity, reducing state and local tax revenues, and placing financial strain on PJs as they deliver urgently needed public health, emergency housing, education, and community and social services. Reducing the matching requirement for PJs in areas covered by a major disaster declaration by 100 percent for FY 2020, 2021 and FY 2022 will ease the economic burden on PJs and eliminate the need for them to identify other sources of match for HOME activities. Given the urgent housing and economic needs created by COVID-19, and the substantial financial impact the PJ will face in addressing those needs, waiver of these regulations will relieve the PJ from the need to identify and provide matching contributions to HOME projects.

Applicability: This match reduction waiver is in effect from October 19, 2019, until September 30, 2022, and applies to funds expended by a PJ for FY 2020, FY 2021, and FY 2022.

Contact: Virginia Sardone, Director, Office of Affordable Housing Programs, U.S. Department of Housing and Urban Development, 451 Seventh Street SW, Room 7160, Washington, DC 20410, telephone (202) 708-2684.

• Regulation: 24 CFR 92.251.

Project/Activity: Any housing units located in the areas included in the declared-disaster area (see FEMA-DR-4611-LA or FEMA-DR-4614-NJ and DR-4615-NY) which were damaged by Hurricane Ida and to which HOME funds are committed within two years of the date of the memorandum.

Nature of Requirement: This provision requires that housing assisted with HOME funds meet property standards based on the activity undertaken, i.e., homebuyer assistance, and state and local standards and codes or model codes for rehabilitation and new construction. Property standard requirements are waived for repair of properties damaged by Hurricane Ida. Units must meet State and local health and safety codes. The lead housing safety regulations established in 24 CFR part 35 are not waived.

Granted By: James Arthur Jemison II, Principal Deputy Assistant Secretary for Community Planning and Development.

Date Granted: September 3, 2021, for LA, September 9, 2021, for NY/NJ.

Reason Waived: This waiver is required to enable the participating jurisdiction to meet the critical housing needs of families whose housing was damaged and families who were displaced by Hurricane Ida.

Applicability: This waiver applies only to housing units located in the declared-disaster areas which were damaged by the disaster and to which HOME funds are committed within two years of the date of this memorandum.

Contact: Virginia Sardone, Director, Office of Affordable Housing Programs, U.S. Department of Housing and Urban Development, 451 Seventh Street SW, Room 7160, Washington, DC 20410, telephone (202) 708-2684.

• Regulation: 24 CFR 92.252(d)(1) Utility Allowance Requirements.

Project/Activity: The State of California and Alameda County requested a waiver of 24 CFR 92.252(d)(1) to allow use of the utility allowance established by the local public housing agency (PHA) for two HOME-assisted projects—Mission Court Nine and Manzanita Family Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: James Arthur Jemison II, Principal Deputy Assistant Secretary for Community Planning and Development.

Date Granted: July 23, 2021.

Reason Waived: The HOME requirements for establishing a utility allowances conflict with Project Based Voucher program requirements. It is not possible to use two different utility allowances to set the rent for a single unit and it is administratively burdensome to require a project owner establish and implement different utility allowances for HOME-assisted units and non-HOME assisted units in a project. This waiver will make quality affordable housing available to Project-Based Voucher (PBV) program participants by permitting the use of HOME funds in PBV-assisted projects.

Contact: Virginia Sardone, Director, Office of Affordable Housing Programs, U.S. Department of Housing and Urban Development, 451 Seventh Street SW, Room 7160, Washington, DC 20410, telephone (202) 708-2684.

• Regulation: 24 CFR 92.504(d)(1)(ii) and 24 CFR 92.64(a) (Insular Areas).

Project/Activity: Ongoing Periodic Inspections of HOME-assisted Rental Housing.

Nature of Requirement: These provisions require that during the period of affordability PJs perform on-site inspections of HOME-assisted rental housing to determine compliance with the property standards at 24 CFR 92.251 and to verify the information submitted by the owners in accordance with the income and rent requirements of section 92.252. Onsite inspections must occur at least once every three years during the period of affordability. 24 CFR 92.64(a) applies these requirements to Insular Areas.

Granted By: James Arthur Jemison II, Principal Deputy Assistant Secretary for Community Planning and Development.

Date Granted: September 27, 2021.

Reason Waived: Waiving the requirement to perform ongoing on-site inspections will help protect PJ staff and limit the spread of COVID-19. To protect PJ staff and reduce the spread of COVID-19, this waiver extends the timeframe for PJs to perform on-going periodic inspections and on-site reviews to determine a HOME rental project's compliance with property standards and rent and income requirements.

Applicability: The waiver is applicable to ongoing periodic inspections. Within 180 days of the end of this waiver period, PJs must physically inspect units that would have been subject to ongoing inspections since the waiver period began on April 10, 2020. The waiver is also applicable to on-site reviews to determine a HOME rental project's compliance with rent and income requirements if the project owner is unable to make documentation available electronically. The waiver is in effect through December 31, 2021.

Contact: Virginia Sardone, Director, Office of Affordable Housing Programs, U.S. Department of Housing and Urban Development, 451 Seventh Street SW, Room 7160, Washington, DC 20410, telephone (202) 708-2684.

• Regulation: 24 CFR 92.504(d)(1)(iii); 24 CFR 92.209(i) requirement for annual re-inspections and 24 CFR 92.64(a) (Insular Areas).

Project/Activity: Housing Quality Standards—Annual Inspections of TBRA Units.

Nature of Requirement: These provisions require PJs to annually inspect each unit occupied by a recipient of HOME TBRA. 24 CFR 92.64(a) applies these requirements to Insular Areas.

Granted By: James Arthur Jemison II, Principal Deputy Assistant Secretary for Community Planning and Development.

Date Granted: September 27, 2021.

Reason Waived: Waiving the requirement that annual re-inspections be performed according to schedule will protect the health of both inspectors and TBRA tenants by observing physical distancing recommendations to limit the spread of COVID-19.

Applicability: The waiver is applicable to annual HQS re-inspections required to occur from April 10, 2020, through December 31, 2021, and for units that were not initially inspected because of the PJ's use of a previous waiver under HUD's April 2020 Memo and/or the December 2020 Memo which provided waivers in response to the COVID-19 pandemic. PJs must make reasonable efforts to address any tenant reported health and safety issues during the waiver period. HUD encourages PJs to conduct ongoing inspections during the waiver period to the greatest extent feasible and consistent with employee and tenant safety. After December 31, 2021, all housing occupied by households receiving HOME TBRA must meet the housing quality standards (HQS) at 24 CFR 982.401. Within 180 days of the end of this waiver period, PJs must physically inspect units that would have been subject to inspections since the waiver period began on April 10, 2020. This waiver does not apply to the lead hazard reduction requirements at 24 CFR 35.1215. Consequently, units built before 1978 must undergo visual evaluation and paint repair in accordance with 24 CFR part 35, subpart M. PJs using this waiver authority must establish procedures to minimize the risk that tenants are in housing that does not meet HQS.

Contact: Virginia Sardone, Director, Office of Affordable Housing Programs, Office of Community Planning and Development, Department of Housing and Urban Development, 451 Seventh Street SW, Room 7160, Washington, DC 20410, telephone (202) 708-2684.

• Regulation: 24 CFR 92.551(b)(1) and 24 CFR 92.64(a).

Project/Activity: Timeframe for a HOME participating jurisdiction's response to findings of noncompliance.

Nature of Requirement: The regulations require that if HUD determines that a participating jurisdiction has not met a provision of the HOME regulations, the participating jurisdiction must be notified and given an opportunity to respond within a time period prescribed by HUD, not to exceed 30 days.

Granted By: James Arthur Jemison II, Principal Deputy Assistant Secretary for Community Planning and Development.

Date Granted: September 27, 2021.

Reason Waived: The waiver is necessary to permit HUD to provide participating jurisdictions with an extended period to respond to findings of noncompliance in recognition of the unanticipated circumstances created by the COVID-19 pandemic. Requiring participating jurisdictions to respond to all findings of noncompliance within 30 days may interfere with a participating jurisdiction's ability to address the unprecedented housing needs caused by the COVID-19 pandemic.

Applicability: The waiver applies to all findings of HOME regulatory noncompliance issued from April 10, 2020, through March 31, 2022. In the notice of findings, HUD will specify a time period for the participating jurisdiction's response. HUD may also extend time periods imposed before April 10, 2020. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Families displaced by the disaster (as documented by FEMA registration) whose income documentation was destroyed or made inaccessible by Hurricane Ida.

Nature of Requirement: This section of the HTF regulation requires initial income determinations for HTF beneficiaries by examining source documents covering the most recent two months. Many families whose homes were destroyed or damaged by Hurricane Ida will not have any documentation of income and will not be able to qualify for HTF assistance if the requirement remains effective.

Granted By: James Arthur Jemison II, Principal Deputy Assistant Secretary for Community Planning and Development.

Date Granted: September 3, 2021, for LA, September 9, 2021, for NY/NJ.

Reason Waived: This waiver permits the grantee to use self-certification of income, as provided in section 93.151(d)(2), in lieu of source documentation to determine initial eligibility of persons displaced by Hurricane Ida for HTF assistance.

Applicability: This waiver applies only to families displaced by the disaster (as documented by FEMA registration) whose income documentation was destroyed or made inaccessible by Hurricane Ida and remains in effect for six months from the date of this memorandum. The grantee or, as appropriate, HTF project owner, is required to maintain: (1) A record of FEMA registration to demonstrate that a family was displaced by Hurricane Ida; and (2) a statement signed by appropriate family members certifying to the family's size and annual income and that the family's income documentation was destroyed or is inaccessible.

Contact: Virginia Sardone, Director, Office of Affordable Housing Programs, U.S. Department of Housing and Urban Development, 451 Seventh Street SW, Room 7160, Washington, DC 20410, telephone (202) 708-2684.

• Regulation: 24 CFR 570.201(e)(1) or (2) and Section 105(a)(8) of the Housing and Community Development Act of 1974, as amended (the Act).

Project/Activity: Any CDBG Entitlement grantee or State CDBG Program unit of general local government assisting persons and families who have registered with FEMA in connection with Hurricane Ida upon notification by the grantee to the Community Planning and Development Director in its respective HUD Field Office.

Nature of Requirement: The regulations at 24 CFR 570.201(e) limit the amount of CDBG funds used for public services to no more than 15 percent of the grantee's most recent CDBG grant plus 15 percent of program income received. Section 105(a)(8) sets forth the limitation of no more than 15 percent of each grant to be used for public services.

Granted By: James Arthur Jemison II, Principal Deputy Assistant Secretary for Community Planning and Development.

Date Granted: September 3, 2021.

Reason Waived: Several CDBG grantees, located within the declared-disaster areas, were affected by Hurricane Ida. The waiver granted will allow these grantees to expedite recovery efforts for low and moderate income residents affected by this event; pay for additional support services for affected individuals and families, including, but not limited to, food, health, employment, and case management services to help persons and families impacted by the property loss and destruction caused by the hurricane and flooding; and enable grantees to pay for the basic daily needs of individuals and families affected by Hurricane Ida on an interim basis.

Contact: James E. Höemann, Director, Entitlement Communities Division, Community Planning and Development, Department of Housing and Urban Development, 451 Seventh Street SW, Room 7282, Washington, DC 20410, telephone (202) 402-5716.

• Regulation: 24 CFR 570.201(e)(1) or (2) and Section 105(a)(8) of the Housing and Community Development Act of 1974, as amended (the Act).

Project/Activity: Any CDBG Entitlement grantee or State CDBG Program unit of general local government assisting persons and families who have registered with FEMA in connection with the remnants of Hurricane Ida upon notification by the grantee to the Community Planning and Development Director in its respective HUD Field Office.

Nature of Requirement: The regulations at 24 CFR 570.201(e) limit the amount of CDBG funds used for public services to no more than 15 percent of the grantee's most recent CDBG grant plus 15 percent of program income received. Section 105(a)(8) sets forth the limitation of no more than 15 percent of each grant to be used for public services.

Granted By: James Arthur Jemison II, Principal Deputy Assistant Secretary for Community Planning and Development.

Date Granted: September 9, 2021.

Reason Waived: Several CDBG grantees, located within the declared-disaster areas, were affected by the remnants of Hurricane Ida. The waiver granted will allow these grantees to expedite recovery efforts for low and moderate income residents affected by this event; pay for additional support services for affected individuals and families, including, but not limited to, food, health, employment, and case management services to help persons and families impacted by the property loss and destruction caused by the storm and flooding; and enable grantees to pay for the basic daily needs of individuals and families affected by the remnants of Hurricane Ida on an interim basis.

Contact: James E. Höemann, Director, Entitlement Communities Division, Community Planning and Development, Department of Housing and Urban Development, 451 Seventh Street SW, Room 7282, Washington, DC 20410, telephone (202) 402-5716.

• Regulation: 24 CFR 570.207(b)(3) and Section 105(a) of the Housing and Community Development Act of 1974, as amended (the Act).

Project/Activity: Any CDBG Entitlement or State CDBG Program grantee located in the counties included in the declared-disaster area (see FEMA-DR-4611) seeking to expedite action in response to Hurricane Ida, upon notification to the Community Planning and Development Director in its respective HUD Field Office.

Nature of Requirement: The regulations at 24 CFR 570.207(b)(3) prohibit the use of CDBG funds for the construction of new, permanent residential structures. New housing construction is not generally an eligible activity under Section 105 of HCDA. It may be undertaken indirectly through CDBG assistance provided to Community Based Development Organizations or other nonprofit entities specified in Section 105(a)(15) of the HCDA.

Granted By: James Arthur Jemison II, Principal Deputy Assistant Secretary for Community Planning and Development.

Date Granted: September 3, 2021.

Reason Waived: HUD recognizes that Hurricane Ida caused damage and destruction to a large number of housing units within the declared-disaster areas. Allowing new housing construction will enable CDBG grantees to replace affordable housing units that were lost as a result of the hurricane and flooding. To expedite the rebuilding process, HUD suspends Section 105(a) of HCDA and waives 24 CFR 570.207(b)(3) through the end of a grantee's 2022 program year to permit grantees to directly use CDBG funds for new housing construction activities to address damage from the hurricane. In addition to the flexibility provided by the suspension of the statute, grantees are encouraged to take advantage of the reconstruction provisions at Section 105(a)(4) of HCDA.

Contact: James E. Höemann, Director, Entitlement Communities Division, Community Planning and Development, Department of Housing and Urban Development, 451 Seventh Street SW, Room 7282, Washington, DC 20410, telephone (202) 402-5716.

• Regulation: 24 CFR 570.207(b)(4) (Entitlements).

Project/Activity: All Community Development Block Grant (CDBG) grantees located within and outside declared disaster areas assisting persons and families who have registered with FEMA in connection with Hurricane Ida.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: James Arthur Jemison II, Principal Deputy Assistant Secretary for Community Planning and Development.

Date Granted: September 3, 2021.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the flooding and other damage associated with Hurricane Ida. The waiver will allow CDBG grantees, including grantees providing assistance to evacuees outside the declared-disaster areas, to pay for the basic daily needs of individuals and families affected by the hurricane on an interim basis. This authority is in effect through the end of the grantee's 2022 program year. This waiver aligns with waivers currently in effect for CDBG coronavirus (CDBG-CV) grants. The six-month periods allowed by waiver for CDBG and CDBG-CV shall not be used consecutively for the same beneficiary.

Contact: James E. Höemann, Director, Entitlement Communities Division, Community Planning and Development, Department of Housing and Urban Development, 451 Seventh Street SW, Room 7282, Washington, DC 20410, telephone (202) 402-5716.

• Regulation: 24 CFR 570.207(b)(3) and Section 105(a) of the Housing and Community Development Act of 1974, as amended (the Act).

Project/Activity: Any CDBG Entitlement or State CDBG Program grantee located in the counties included in the declared-disaster area (see FEMA-DR-4614 and FEMA-DR-4615) seeking to expedite action in response to the remnants of Hurricane Ida, upon notification to the Community Planning and Development Director in its respective HUD Field Office.

Nature of Requirement: The regulations at 24 CFR 570.207(b)(3) prohibit the use of CDBG funds for the construction of new, permanent residential structures. New housing construction is not generally an eligible activity under Section 105 of HCDA. It may be undertaken indirectly through CDBG assistance provided to Community Based Development Organizations or other nonprofit entities specified in Section 105(a)(15) of the HCDA.

Granted By: James Arthur Jemison II, Principal Deputy Assistant Secretary for Community Planning and Development.

Date Granted: September 9, 2021.

Reason Waived: HUD recognizes that the remnants of Hurricane Ida caused damage and destruction to a large number of housing units within the declared-disaster areas. Allowing new housing construction will enable CDBG grantees to replace affordable housing units that were lost as a result of the hurricane remnants and flooding. To expedite the rebuilding process, HUD suspends Section 105(a) of HCDA and waives 24 CFR 570.207(b)(3) through the end of a grantee's 2022 program year to permit grantees to directly use CDBG funds for new housing construction activities to address damage from the remnants of the hurricane. In addition to the flexibility provided by the suspension of the statute, grantees are encouraged to take advantage of the reconstruction provisions at Section 105(a)(4) of HCDA.

Contact: James E. Höemann, Director, Entitlement Communities Division, Community Planning and Development, Department of Housing and Urban Development, 451 Seventh Street SW, Room 7282, Washington, DC 20410, telephone (202) 402-5716.

• Regulation: 24 CFR 570.207(b)(4) (Entitlements).

Project/Activity: All Community Development Block Grant (CDBG) grantees located within and outside declared disaster areas assisting persons and families who have registered with FEMA in connection with the remnants of Hurricane Ida.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: James Arthur Jemison II, Principal Deputy Assistant Secretary for Community Planning and Development.

Date Granted: September 9, 2021.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the flooding and other damage associated with the remnants of Hurricane Ida. The waiver will allow CDBG grantees, including grantees providing assistance to evacuees outside the declared-disaster areas, to pay for the basic daily needs of individuals and families affected by the remnants of the hurricane on an interim basis. This authority is in effect through the end of the grantee's 2022 program year. This waiver aligns with waivers currently in effect for CDBG coronavirus (CDBG-CV) grants. The six-month periods allowed by waiver for CDBG and CDBG-CV shall not be used consecutively for the same beneficiary.

Contact: James E. Höemann, Director, Entitlement Communities Division, Community Planning and Development, Department of Housing and Urban Development, 451 Seventh Street SW, Room 7282, Washington, DC 20410, telephone (202) 402-5716.

• Regulation: 24 CFR 574.310(b)(2).

Nature of Requirement: Section 574.310(b)(2) of the HOPWA regulations provides minimum housing quality standards that apply to all housing for which HOPWA funds are used for acquisition, rehabilitation, conversion, lease, or repair; new construction of single room occupancy dwellings and community residences; project or tenant-based rental assistance; or operating costs under 24 CFR 574.300(b)(3), (4), (5), or (8).

Granted By: James Arthur Jemison II, Principal Deputy Assistant Secretary for Community Planning and Development.

Date Granted: September 3, 2021.

Reason Waived: This waiver is required to enable grantees and project sponsors in areas covered by major disaster declaration DR-4611-LA to expeditiously meet the critical housing needs of the many eligible families in the declared disaster areas.

Applicability: The property standard requirements in 24 CFR 574.310(b)(2) are waived for units in areas covered under major disaster declaration DR-4611-LA that are or will be occupied by HOPWA eligible households, provided that the units are free of life-threatening conditions as defined in Notice PIH 2017-20 (HA). Grantees must ensure that these units meet HOPWA HQS within 60 days of September 3, 2021.

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 574.310(b)(2).

Project/Activity: Property Standards for HOPWA.

Nature of Requirement: Section 574.310(b)(2) of the HOPWA regulations provides minimum housing quality standards that apply to all housing for which HOPWA funds are used for acquisition, rehabilitation, conversion, lease, or repair; new construction of single room occupancy dwellings and community residences; project or tenant-based rental assistance; or operating costs under 24 CFR 574.300(b)(3), (4), (5), or (8).

Granted By: James Arthur Jemison II, Principal Deputy Assistant Secretary for Community Planning and Development.

Date Granted: September 9, 2021.

Reason Waived: This waiver is required to enable grantees and project sponsors in areas covered by major disaster declarations DR-4614-NJ and DR-4615-NY to expeditiously meet the critical housing needs of the many eligible families in the declared disaster areas.

Applicability: The property standard requirements in 24 CFR 574.310(b)(2) are waived for units in areas covered under major disaster declarations DR-4614-NJ and DR-4615-NY that are or will be occupied by HOPWA eligible households, provided that the units are free of life-threatening conditions as defined in Notice PIH 2017-20 (HA). Grantees must ensure that these units meet HOPWA HQS within 60 days of September 9, 2021.

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 574.320(a)(2).

Project/Activity: Rent Standard for HOPWA Rental Assistance.

Nature of Requirement: Grantees must establish rent standards for their rental assistance programs based on FMR (Fair Market Rent) or the HUD-approved community-wide exception rent for unit size.

Granted By: James Arthur Jemison II, Principal Deputy Assistant Secretary for Community Planning and Development.

Date Granted: September 3, 2021.

Reason Waived: This waiver is required to enable HOPWA grantees to expedite efforts to meet the critical housing needs of low-income people living with HIV and their families in the areas covered under major disaster declaration DR-4611-LA. Waiving the rent standard requirement, while still requiring that the unit be rent reasonable in accordance with § 574.320(a)(3), will make more units available to HOPWA eligible individuals and families in need of permanent housing in the declared-disaster areas.

Applicability: The rent standard requirement is waived for any rent amount that takes effect during the two-year period beginning on September 3, 2021, for any individual or family who is renting or executes a lease for a unit in the areas covered under major disaster declaration DR-4611-LA. Grantees and project sponsors must still ensure the reasonableness of rent charged for units in the declared-disaster areas in accordance with § 574.320(a)(3).

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 574.320(a)(2).

Project/Activity: Rent Standard for HOPWA Rental Assistance.

Nature of Requirement: Grantees must establish rent standards for their rental assistance programs based on FMR (Fair Market Rent) or the HUD-approved community-wide exception rent for unit size.

Granted By: James Arthur Jemison II, Principal Deputy Assistant Secretary for Community Planning and Development.

Date Granted: September 9, 2021.

Reason Waived: This waiver is required to enable HOPWA grantees to expedite efforts to meet the critical housing needs of low-income people living with HIV and their families in the areas covered under major disaster declarations DR-4614-NJ and DR-4615-NY. Waiving the rent standard requirement, while still requiring that the unit be rent reasonable in accordance with § 574.320(a)(3), will make more units available to HOPWA eligible individuals and families in need of permanent housing in the declared-disaster areas.

Applicability: The rent standard requirement is waived for any rent amount that takes effect during the two-year period beginning on September 9, 2021, for any individual or family who is renting or executes a lease for a unit in the areas covered under major disaster declarations DR-4614-NJ and DR-4615-NY. Grantees and project sponsors must still ensure the reasonableness of rent charged for units in the declared-disaster areas in accordance with § 574.320(a)(3).

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 574.530.

Project/Activity: HOPWA Source Documentation for Income and HIV Status Determinations.

Nature of Requirement: Each grantee must maintain records to document compliance with HOPWA requirements, which includes determining the eligibility of a family to receive HOPWA assistance.

Granted By: James Arthur Jemison II, Principal Deputy Assistant Secretary for Community Planning and Development.

Date Granted: September 3, 2021.

Reason Waived: This waiver will permit HOPWA grantees and project sponsors, located within and outside of the areas covered under major disaster declaration DR-4611-LA, to rely upon a family member's self-certification of income and credible information on their HIV status (such as knowledge of their HIV-related medical care) in lieu of source documentation to determine eligibility for HOPWA assistance for individuals and families displaced by the disaster. Many individuals and families displaced by the disaster whose homes have been destroyed or damaged will not have immediate access to documentation of income or medical records and, without this waiver, will be unable to document their eligibility for HOPWA assistance.

Applicability: This waiver is available to HOPWA grantees, located within and outside of the areas covered under major disaster declaration DR-4611-LA, to assist displaced persons and families who have registered with FEMA in connection with Hurricane Ida. Grantees must require written certification of HIV status and income of such individuals and families seeking assistance and obtain source documentation of HIV status and income eligibility within six months of September 3, 2021.

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 574.530.

Project/Activity: HOPWA Source Documentation for Income and HIV Status Determinations.

Nature of Requirement: Each grantee must maintain records to document compliance with HOPWA requirements, which includes determining the eligibility of a family to receive HOPWA assistance.

Granted By: James Arthur Jemison II, Principal Deputy Assistant Secretary for Community Planning and Development.

Date Granted: September 9, 2021.

Reason Waived: This waiver will permit HOPWA grantees and project sponsors, located within and outside of the areas covered under major disaster declarations DR-4614-NJ and DR-4615-NY, to rely upon a family member's self-certification of income and credible information on their HIV status (such as knowledge of their HIV-related medical care) in lieu of source documentation to determine eligibility for HOPWA assistance for individuals and families displaced by the disaster. Many individuals and families displaced by the disaster whose homes have been destroyed or damaged will not have immediate access to documentation of income or medical records and, without this waiver, will be unable to document their eligibility for HOPWA assistance.

Applicability: This waiver is available to HOPWA grantees, located within and outside of the areas covered under major disaster declarations DR-4614-NJ and DR-4615-NY, to assist displaced persons and families who have registered with FEMA in connection with Hurricane Ida. Grantees must require written certification of HIV status and income of such individuals and families seeking assistance and obtain source documentation of HIV status and income eligibility within six months of September 9, 2021.

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 576.106(a), 576.105(a)(5), and 576.105(b)(2).

Project/Activity: The 24-month limits on rental assistance and housing relocation and stabilization services are waived for individuals and families who meet both of the following criteria:

1. The individual or family lives in a declared-disaster area or was displaced from a declared-disaster area as a result of Hurricane Ida; and

2. The individual or family is currently receiving rental assistance or housing relocation stabilization services or begins receiving rental assistance or housing relocation stabilization services within two years after the date of this memorandum.

For these individuals and families, ESG funds may be used to provide up to thirty-six consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any three-year period. Section 576.105(a)(5) prohibits a program participant from receiving more than 24 months of utility payments under ESG during any three-year period. Section 576.105(b)(2) limits the provision of housing stability case management to 30 days while the program participant is seeking permanent housing.

Granted By: James Arthur Jemison II, Principal Deputy Assistant Secretary for Community Planning and Development.

Date Granted: September 3, 2021, for LA—September 9, 2021, for NY/NJ.

Reason Waived: Waiving the 24-month caps on rental assistance, utility payments, and housing stability case management assistance will assist individuals and families, both those already receiving assistance and those who will receive assistance subsequent to the date of this memorandum, to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone number (202) 708-4300.

• Regulation: 24 CFR 576.106(d)(1).

Project/Activity: The FMR restriction is waived for any rent amount that takes effect during the two-year period beginning on the date that the waiver appeared in the Federal Register for any individual or family who is renting or executes a lease for a unit in a declared-disaster area. However, the affected recipients and their subrecipients must still ensure that the unit in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: James Arthur Jemison II, Principal Deputy Assistant Secretary for Community Planning and Development.

Date Granted: September 3, 2021, for LA—September 9, 2021, for NY/NJ.

Reason Waived: This waiver is required to enable ESG recipients to meet the critical housing needs of individuals and families whose housing was damaged or who were displaced due to the severe winter weather. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

• Regulation: 24 CFR 576.403(c).

Project/Activity: The ESG housing standards at 24 CFR 576.403(c) are waived for units in the declared disaster area that are or will be occupied by individuals or families eligible for ESG Rapid Re-housing or Homelessness Prevention assistance, provided that:

1. Each unit must still meet applicable state and local standards;

2. Each unit must be free of life-threatening conditions as defined in Notice PIH 2017-20 (HA); and

3. Recipients assure all units in which program participants are assisted meet the ESG housing standards within 60 days of the date of this memorandum.

Nature of Requirement: If ESG funds are used to help a program participant remain in or move into housing, the housing must meet the minimum habitability standards provided in 24 CFR 576.403(c).

Granted By: James Arthur Jemison II, Principal Deputy Assistant Secretary for Community Planning and Development.

Date Granted: September 3, 2021, for LA—September 9, 2021, for NY/NJ.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

• Regulation: 24 CFR 576.403(b).

Project/Activity: The shelter standard standards at 24 CFR 576.403(b) are waived for shelters in the declared disaster area that are or will be occupied by individuals and families eligible for ESG emergency shelter assistance, provided that:

1. Each shelter must meet applicable state and local standards;

2. Each shelter must be free of life-threatening conditions defined in Notice PIH 2017-20 (HA); and

3. Recipients must ensure that these shelters meet ESG shelter standards within 60 days of the date of this memorandum.

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: James Arthur Jemison II, Principal Deputy Assistant Secretary for Community Planning and Development.

Date Granted: September 3, 2021 for LA—September 9, 2021 for NY/NJ.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

• Regulation: 24 CFR 576.203(b).

Project/Activity: The expenditure deadline is waived for rapid re-housing and homelessness prevention costs, along with reasonable related HMIS and administrative costs. Unless otherwise waived for an individual recipient, any draw made after 24 months from the date HUD signs the grant agreement must be for rapid re-housing or homelessness prevention assistance or for costs related to HMIS data entry related to these activities and administrative costs related to carrying out these activities.

Nature of Requirement: A recipient must expend grant funds within 24 months after the date HUD signs the grant agreement with the recipient. Expenditure means an actual cash disbursement for a direct charge for a good or service or an indirect cost accrual of a direct charge for a good or service or an indirect cost.

Granted By: James Arthur Jemison II, Principal Deputy Assistant Secretary for Community Planning and Development.

Date Granted: September 3, 2021, for LA—September 9, 2021, for NY/NJ.

Reason Waived: Extending the expenditure deadline for rapid re-housing and homelessness prevention assistance, along with reasonable related HMIS and administrative costs will allow recipients to provide more than 24 months of rapid re-housing and homelessness prevention assistance from a single ESG grant as permitted by the waivers of 24-month limits on rental assistance and housing relocation and stabilization services and the FMR restriction granted on September 3, 2021, for LA and September 9, 2021, for NY/NJ.

Contact: Norm Suchar, Director, Office of Special Needs Assistance Programs, Office of Community Planning and Development, Department of Housing and Urban Development, 451 Seventh Street SW, Room 7262, Washington, DC 20410, telephone number (202) 708-4300.

• Regulation: 24 CFR 578.37(a)(1)(ii), 24 CFR 578.37(a)(1)(ii)(C), and 24 CFR 578.51(a)(1)(i).

Project/Activity: For two years from the date of the waiver, the 24-month limit on rental assistance is waived for individuals and families who meet the following criteria:

1. The individual or family lives in a declared-disaster area or was displaced from a declared-disaster area as a result of Hurricane Ida; and

2. The individual or family is currently receiving rental assistance or begins receiving rental assistance within two years after the date of this memorandum.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: James Arthur Jemison II, Principal Deputy Assistant Secretary for Community Planning and Development.

Date Granted: September 3, 2021, for LA—September 9, 2021, for NY/NJ.

Reason Waived: Waiving the 24-month cap on rapid re-housing rental assistance will assist individuals and families affected by Hurricane Ida and the flooding, including those already receiving rental assistance as well as those who will receive rental assistance within 2 years of the date of this memorandum, to maintain stable permanent housing in another area and help them return to their hometowns, as desired, when additional permanent housing becomes available. It will also provide additional time to stabilize individuals and families in permanent housing where vacancy rates are extraordinarily low due to the hurricane and flooding. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

• Regulation: 24 CFR 578.3, definition of permanent housing, 24 CFR 578.51(l)(1).

Project/Activity: The one-year lease requirement is waived for two years beginning on the date of the waiver, so long as the initial lease term of all leases is for one month or more, and the leases are renewable for terms that are a minimum of one month long and the leases are terminable only for cause.

Nature of Requirement: The CoC Program regulations at 24 CFR 578.3, definition of permanent housing, and 24 CFR 578.51(l)(1) require program participants residing in permanent housing to be the tenant on a lease for a term of one year that is renewable and terminable for cause.

Granted By: James Arthur Jemison II, Principal Deputy Assistant Secretary for Community Planning and Development.

Date Granted: September 3, 2021, for LA—September 9, 2021, for NY/NJ.

Reason Waived: Waiving the one-year lease requirement will allow program participants receiving PSH or RRH assistance under the CoC Program to enter into leases that have an initial term of less than one year, so long as the leases have an initial term of one month or more. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

• Regulation: 24 CFR 578.53(e)(2).

Project/Activity: The one-time limit on moving costs is waived for two years beginning on the date of the waiver.

Nature of Requirement: The CoC Program regulation at 24 CFR 578.53(e)(2) limits recipients of supportive service funds to using those funds to pay for moving costs to provide reasonable moving assistance, including truck rental and hiring a moving company, to only one-time per program participant.

Granted By: James Arthur Jemison II, Principal Deputy Assistant Secretary for Community Planning and Development.

Date Granted: September 3, 2021, for LA—September 9, 2021, for NY/NJ.

Reason Waived: Waiving this provision will permit recipients to pay for reasonable moving costs for program participants more than once and will assist program participants affected by Hurricane Ida as well as those who become homeless in the areas impacted by Hurricane Ida to stabilize in housing locations of their choice. Many current program participants received assistance moving into their assisted units prior to being displaced by Hurricane Ida and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

• Regulation: 24 CFR 578.49(b)(2).

Project/Activity: The FMR restriction is waived for any lease executed by a recipient or subrecipient to provide transitional or permanent supportive housing during the 2-year period beginning on the date of this memorandum. The affected recipient or subrecipient must still ensure that rent paid for individual units that are leased with CoC Program leasing dollars meet the rent reasonableness standard in 24 CFR 578.49(b)(2).

Nature of Requirement: The CoC Program regulation at 24 CFR 578.49(b)(2) prohibits a recipient from using grant funds for leasing to pay above FMR when leasing individual units, even if the rent is reasonable when compared to other similar, unassisted units.

Granted By: James Arthur Jemison II, Principal Deputy Assistant Secretary for Community Planning and Development.

Date Granted: September 9, 2021, for NY/NJ.

Reason Waived: Waiving the limit on using grant using leasing funds to pay above FMR for individual units above FMR, but not greater than reasonable rent will provide recipients and subrecipients with more flexibility in identifying housing options for program participants in disaster-declared areas. The rental market in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone number (202) 708-4300.

II. Regulatory Waivers Granted by the Office of Housing—Federal Housing Administration (FHA)

For further information about the following regulatory waivers, please see the name of the contact person that immediately follows the description of the waiver granted.

• Regulation: 2 CFR 200, Subpart F, Appendix IV, Paragraph C.2.f.

Project/Activity: Comprehensive Housing Counseling Grantees.

Nature of Requirement: Provisional and final indirect cost rates must be negotiated where neither predetermined nor fixed rates are appropriate. At the close of an organization's fiscal year, a final rate will be established and upward or downward adjustments will be made based on the actual allowable costs incurred for the period involved.

Granted by: Lopa P. Kolluri, Principal Deputy Assistant Secretary for Housing, Federal Housing Commission.

Date Granted: September 29, 2021.

Reason Waived: A change in contract service providers led to significant backlog in processing negotiated indirect cost rate agreement (NICRA) proposals. For Housing Counseling Program grantees that are dependent on approval of a NICRA associated with housing counseling activities, the current backlog continues to delay final closeout activities for grants for previous Fiscal Years. Requiring grantees to finalize indirect cost rates for previous Fiscal Years where grant funds that have already been expended and where OHC has performed closeout activities using the provisional rate exacerbates the existing backlog in obtaining final rates for current and future grantees.

Contact: Brian Siebenlist, Director, Office of Housing Counseling, Office of Housing, Department of Housing and Urban Development, 451 Seventh Street SW, Room 9224, Washington, DC 20410, telephone (202) 402-5415.

• Regulation: 24 CFR 200.54(b).

Project/Activity: Projects insured under National Housing Act Section 213 and Section 221(d)(4).

Nature of Requirement: 24 CFR 200.54(b), requires that an agreement acceptable to the Commissioner shall require that funds provided by the mortgagor under requirements of this section must be disbursed in full for project work, material, and incidental charges and expenses before disbursement of any mortgage proceeds.

Granted by: Lopa P. Kolluri, Principal Deputy Assistant Secretary for the Office of Housing—Federal Housing Administration.

Date Granted: July 5, 2021.

Reason Waived: The partial waiver will allow mortgage proceeds resulting from the initial issuance of a mortgage-backed security guaranteed by the Government National Mortgage Association to be disbursed immediately upon receipt but limited to no more than one half percent (0.5%) of the initially endorsed loan amount for projects insured under National Housing Act Section 213 and Section 221(d)(4) only when the required Borrower equity exceeds the amount of the initial construction draw at closing.

Contact: Zachary Skochko, Senior Production Specialist, Multifamily Housing, Office of Housing, Department of Housing and Urban Development, 451 Seventh Street SW, Room 6140, Washington, DC 20410, telephone (202) 402-7112, Zachary.S.Skochko@hud.gov.

• Regulation: 24 CFR 242.49(a).

Project/Activity: Regents of the University of New Mexico d/b/a University of New Mexico Hospital, Albuquerque, NM.

Nature of Requirements: 24 CFR 242.49(a) states that, where HUD requires the mortgagor to make a deposit of cash or securities, such deposit shall be with the mortgagee or with a depository acceptable to the mortgage and HUD. Any such deposit shall be held in a separate account for and on behalf of the mortgagor and shall be the responsibility of that mortgagee or depository.

Granted By: Lopa P. Kolluri, Principal Assistant Secretary for Housing Federal Housing Commissioner.

Date Granted: August 26, 2021.

Reason Waived: The Regents of the University of New Mexico is contributing a large equity contribution in conjunction with a § 241 supplemental HUD insured mortgage to complete the construction of a new Adult Acute Care Replacement Hospital. The regulatory waiver of 24 CFR 242.49(a) is necessary to allow the mortgagor to hold funds needed to complete the project.

The Regents of the University of New Mexico is a component unit of New Mexico State Government and approvals for the transfer of equity funds to a lender sponsored account would be time intensive and could negatively impact the construction schedule. Efforts to meet the construction timeline are highly important due to the COVID-19 pandemic which has caused uncertainty in the supply chain for construction commodities. A delay in the construction schedule could materially impair the project cost and the ability for the mortgagor to complete this highly needed project for the benefit of healthcare delivery in its community. The mortgagor's excellent historical track record with HUD and performance in the 242 portfolio further supports this waiver request.

Contact: Paul Giaudrone, Underwriting Director, Office of Hospital Facilities, Office of Healthcare Programs, Office of Housing, Department of Housing and Urban Development, 409 3rd Street SW, Washington, DC 20024, telephone (202) 578-2027.

• Regulation: 24 CFR 3282.14(b), Alternative construction of manufactured homes, 1/16/84.

Project/Activity: Regulatory Waiver for Industry-Wide Alternative Construction Letter for Window Standard.

Nature of Requirement: 24 CFR 3282.14(b), Request for Alternative Construction, requires manufactured housing manufacturers to submit a request for Alternative Construction consideration for the use of construction designs or techniques that do not conform with HUD Standards, to receive permission from HUD to utilize such designs or techniques in the manufacturing process for manufactured homes.

Granted by: Lopa P. Kolluri, Principal Deputy Assistant Secretary for Housing—Federal Housing Administration.

Date Granted: August 5, 2021.

Reason Waived: Due to ongoing materials shortages affecting the manufactured home industry, it was necessary to extend the Regulatory Waiver initially approved in April 2020 and renewed in December 2020, to allow an alternative window standard to be used for the construction of HUD Code-compliant manufactured homes. This regulatory waiver was granted to allow the Office of Manufactured Housing Programs to provide an industry-wide Alternative Construction approval letter that could be used by any manufacturer experiencing supply chain issues for windows. The regulatory waiver is good through June 30, 2022.

Contact: Teresa B. Payne, Administrator, Office of Manufactured Housing Programs, Office of Housing, 451 Seventh Street SW, Room 9168, Washington, DC 20410-0800, telephone (202) 402-5365, Teresa.L.Payne@hud.gov.

• Regulation: 24 CFR 3282.14(b), Alternative construction of manufactured homes, 1/16/84.

Project/Activity: Regulatory Waiver for Industry-Wide Alternative Construction Letter for Electrical Circuit Breakers for Water Heater Installations.

Nature of Requirement: 24 CFR 3282.14(b), Request for Alternative Construction, requires manufactured housing manufacturers to submit a request for Alternative Construction consideration for the use of construction designs or techniques that do not conform with HUD Standards, to receive permission from HUD to utilize such designs or techniques in the manufacturing process for manufactured homes.

Granted by: Lopa P. Kolluri, Principal Deputy Assistant Secretary for Housing—Federal Housing Administration.

Date Granted: August 5, 2021.

Reason Waived: Many manufactured home manufacturers are currently facing shortages in the supply of 25-ampere (amp), double-pole circuit breaks that are necessary for Rheem brand 4,500-watt, 240-volt water heater installations to conform to HUD's circuit break sizing standards. Alternative circuit breaker options are available that provide performance equivalent or superior to that required by the Standards yet cannot be utilized without an Alternative Construction approval. To resolve this matter for the whole industry in an expedient manner while protecting the health and safety of consumers and maintaining durability of the homes, this regulatory waiver was granted to allow the Office of Manufactured Housing Programs to provide an industry-wide Alternative Construction approval letter that could be used by any manufacturer experiencing supply chain issues for 25-amp circuit breakers to use an alternative electrical circuit breaker size to be used for the construction of HUD Code-compliant manufactured homes through December 31, 2021.

Contact: Teresa B. Payne, Administrator, Office of Manufactured Housing Programs, Office of Housing, Department of Housing and Urban Development, 451 Seventh Street SW, Room 9168, Washington, DC 20410-0800, telephone (202) 402-5365, Teresa.L.Payne@hud.gov.

III. HUD's Summary of CARES Act Notices Providing Waivers 6/30/21 to 9/30/21

Office of Community Planning and Development (CPD)

Authority: Coronavirus Aid, Relief, and Economic Security Act (CARES Act).

• Notice CPD 21-08: Waivers and Alternative Requirements for the Emergency Solutions Grants (ESG) Program Under the CARES Act available at: https://www.hud.gov/sites/dfiles/OCHCO/documents/2021-08cpdn.pdf.

Date Issued: July 19, 2021.

Description: Notice CPD-21-08 (the ESG-CV Notice) includes and explains multiple statutory and regulatory waivers HUD provided for ESG grants funded by the CARES Act (ESG-CV grants), as well as alternative requirements and applicable statutory and regulatory requirements for those grants. The waivers and alternative requirements in the ESG-CV Notice were made using special authority under the CARES Act, as further explained in section III of the ESG-CV Notice. The same waivers and alternative requirements were also made applicable to FY2020 and prior fiscal year ESG funds an ESG recipient uses to prevent, prepare for, and respond to the coronavirus pandemic until September 30, 2022, subject to the additional conditions explained in section IV of the ESG-CV Notice. This ESG-CV Notice was issued by James Arthur Jemison II, Principal Deputy Assistant Secretary for Community Planning and Development, and supersedes the initial ESG-CV Notice (Notice CPD-20-08) that was issued on September 1, 2020. Questions about the waivers provided in Notice CPD-21-08 should be directed to Norm Suchar, Director, Office of Special Needs Assistance Programs, Department of Housing and Urban Development, 451 Seventh Street SW, Room 7266, Washington, DC 20410 or ESG-CV@hud.gov.

[FR Doc. 2022-05353 Filed 3-14-22; 8:45 am]

BILLING CODE 4210-67-P